DEPARTMENT OF THE TREASURY

Internal Revenue Service

26 CFR Part 1

Section 482: Methods To Determine Taxable Income in Connection With a Cost Sharing Arrangement

CFR Correction

In Title 26 of the Code of Federal Regulations, Part 1 (§§ 1.441 to 1.500), revised as of April 1, 2012, on page 604, in § 1.482-1, in paragraph (c)(1), before the last sentence, reinstate the following sentence:

§ 1.482-1 Allocation of income and deductions among taxpayers.

* * * * *

(c) * * * (1) * * * See § 1.482-8 for examples of the application of the best method rule. * * *

* * * * *

[FR Doc. 2013-07103 Filed 3-25-13; 8:45 am]

BILLING CODE 1505-01-D